SMALL BUSINESS ADMINISTRATION

Meeting of the Interagency Task Force on Veterans Small Business Development

AGENCY: U.S. Small Business Administration (SBA).

ACTION: Notice of open Federal Advisory Committee meeting.

SUMMARY: The SBA is issuing this notice to announce the location, date, time, and provide supplemental information for the next Interagency Task Force on Veterans Small Business Development (IATF). The meeting is open to the public.

DATES: Wednesday, March 4, 2020, from 1 p.m. to 4 p.m. EST.

ADDRESSES: The meeting will be held at SBA Headquarters, 409 3rd Street SW, Eisenhower Conference Room A, Washington, DC 20416, and via teleconference.

FOR FURTHER INFORMATION CONTACT: The meeting is open to the public; however advance notice of attendance is requested. To RSVP and confirm attendance, the general public should email veteransbusiness@sba.gov with subject line—“RSVP for March 4, 2020 IATF Public Meeting.”

Anyone wishing to make comments to the Task Force must contact SBA's Office of Veterans Business Development (OVBD) no later than February 25, 2020, via email veteransbusiness@sba.gov, or Timothy Green, Deputy Associate Administrator, OVBD at (202) 205-6773. Comments for the record will be limited to five minutes to accommodate as many participants as possible.

Special accommodation requests should also be directed to OVBD at (202) 205-6773 or veteransbusiness@sba.gov. For more information on veteran owned small business programs, please visit www.sba.gov/ovbd.

Participants not attending in person can join via teleconference by calling 1-202-765-1264, Conference ID: 331933369#.

All applicable documents will be posted on the IATF website: https://www.sba.gov/offices/headquarters/ovbd/resources/14372.

SBA's main entrance lobby has been closed due to renovation construction. As a result, the security area has been relocated and the only means of entering the building is via the entrance located at D Street SW, located next to Gold's Gym. Once inside the building, visitors must check in with the security desk.

For security purposes attendees must:

1. Present a valid photo ID to receive a visitor badge.

2. Know the name of the event being attended: The meeting event is the Interagency Task Force on Veterans Small Business Development (IATF)

3. Visitor badges are issued by the security officer at the main entrance. Visitors are always required to display their visitor's badge while inside the building.

4. Laptops and other electronic devices may be inspected and logged for identification purposes.

5. Due to limited parking options, Metro's Federal Center SW station is the easiest way to access SBA Headquarters.

SUPPLEMENTARY INFORMATION: Pursuant to section 10(a)(2) of the Federal Advisory Committee Act (5 U.S.C., Appendix 2), SBA announces the meeting of the Interagency Task Force on Veterans Small Business Development (IAFT). The IATF is established pursuant to Executive Order 13540 to coordinate the efforts of Federal agencies to improve capital, business development opportunities, and pre-established federal contracting goals for small business concerns owned and controlled by veterans and service-disabled veterans.

The purpose of this meeting is to discuss efforts that support service-disabled veteran-owned small businesses, updates on past and current events, and the IATF's objectives for fiscal year 2020.

Dated: February 10, 2020.
Nicole Nelson,
Committee Management Officer (Acting).

[FR Doc. 2020-03213 Filed 2-18-20; 8:45 am]

BILLING CODE P